DEPARTMENT OF LABOR

Occupational Safety and Health Administration

[Docket No. OSHA-2007-0039]

Intertek Testing Services NA, Inc.; Application Expansion of Recognition; Voluntary Termination of Entela, Inc., Recognition

AGENCY: Occupational Safety and Health Administration (OSHA), Labor.

ACTION: Notice.

SUMMARY: This notice announces the application of Intertek Testing Services NA, Inc., (ITSNA) for expansion of its recognition and presents the Agency's preliminary finding to grant this request. This preliminary finding does not constitute an interim or temporary approval of this application. This notice also announces the voluntary termination of recognition of Entela, Inc. (ENT), which was purchased by ITSNA's parent company and is now affiliated with ITSNA.

DATES: You must submit information or comments, or any request for extension of the time to comment, by the following dates:

• Hard copy: postmarked or sent by February 12, 2008.

• Electronic transmission or facsimile: sent by February 12, 2008.

ADDRESSES: You may submit comments by any of the following methods:

Electronically: You may submit comments electronically at http://www.regulations.gov, which is the Federal eRulemaking Portal. Follow the instructions online for making electronic submissions.

Fax: If your submissions, including attachments, are not longer than 10 pages, you may fax them to the OSHA Docket Office at (202) 693-1648.

Mail, hand delivery, express mail, messenger or courier service: You must submit three copies of your comments to the OSHA Docket Office, Docket No. OSHA-2007-0039 (formerly NRTL1-89), U.S. Department of Labor, Room N-2625, 200 Constitution Avenue, NW., Washington, DC 20210. Deliveries (hand, express mail, messenger and courier service) are accepted during the Department of Labor's and Docket Office's normal business hours, 8:15 a.m.-4:45 p.m., e.t.

Instructions: All submissions must include the Agency name and the OSHA docket number (OSHA Docket No. OSHA-2007-0039; formerly NRTL1-89). Submissions, including any personal information you provide, are placed in the public docket without change and may be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of Comment Period: Submit requests for extensions concerning this notice to the Office of Technical Programs and Coordination Activities, NRTL Program, Occupational Safety and Health Administration, U.S. Department of Labor, 200 Constitution Avenue, NW., Room N-3655, Washington, DC 20210. Or, fax to (202) 693-1644.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110. Our Web page includes information about the NRTL Program (see http://www.osha.gov and select “N” in the site index).

SUPPLEMENTARY INFORMATION:

Notice of Expansion Application

The Occupational Safety and Health Administration (OSHA) hereby gives notice that Intertek Testing Services NA, Inc., (ITSNA) has applied for expansion of its recognition as a Nationally Recognized Testing Laboratory (NRTL). ITSNA's expansion request covers the use of additional test standards. OSHA's current scope of recognition for ITSNA may be found in the following informational Web page: http://www.osha.gov/dts/otpca/nrtl/its.html.

OSHA recognition of an NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent application processed by OSHA specifically related to the recognition of ITSNA granted an expansion of recognition, and the final notice for this expansion was published on November 4, 2003 (see 68 FR 62479). OSHA, however, issued a notice modifying the scope of a number of NRTLs to replace or delete withdrawn test standards (see 70 FR 11273, March 8, 2005). ITSNA was one of those NRTLs.

The current addresses of the ITSNA facilities (sites) already recognized by OSHA are:

ITSNA, Inc., 3933 U.S. Route 11, Cortland, New York 13045;

ITSNA, Inc., 1950 Evergreen Boulevard, Duluth, Georgia 30096;

ITSNA, Inc., 1365 Adams Court, Menlo Park, California 94025;

ITSNA, Inc., 70 Codman Hill Road, Boxborough, Massachusetts 01719;

ITSNA, Inc., 27611 LaPaz Road, Suite C, Laguna Niguel, California 92677;

ITSNA, Inc., 8431 Murphy Drive, Middleton, Wisconsin 53562;

ITSNA, Inc., 7250 Hudson Blvd., Suite 100, Oakdale, Minnesota 55128;

ITSNA, Inc., 40 Commerce Way, Unit B, Totowa, New Jersey 07512;

ITSNA, Inc., 731 Enterprise Drive, Lexington, Kentucky 40510;

ITSNA Ltd., 1500 Brigantine Drive, Coquitlam, British Columbia V3K 7C1, Canada;

ITS Hong Kong Ltd., 2/F., Garment Centre, 576 Castle Peak Road, Kowloon, Hong Kong;

ITS Taiwan Ltd., 5F, No. 423, Ruiguang Rd., Neihu District, Taipei City 114, Taiwan R.O.C.; and

ITSNA Sweden AB, Box 1103, S-164 #22, Kista, Stockholm, Sweden.

General Background on the Expansion Application

ITSNA has submitted an application, dated August 25, 2005, for renewal and expansion of its recognition (see Exhibit 48-1). OSHA is still processing ITSNA's renewal, but, based upon discussions with the NRTL, the expansion is being treated separately. For the expansion, ITSNA requested the addition of 56 test standards to its scope; however, one of these standards is already included in ITSNA's scope and another has been withdrawn by the standards developing organization. The NRTL Program staff has determined that the remaining 54 standards are “appropriate test standards.” Therefore, OSHA would approve 54 test standards for the expansion. In connection with the expansion, OSHA staff performed an on-site visit of the NRTL's Cortland site (its headquarters facility) in May 2006. Based on this visit, the staff recommends expansion of the ITSNA recognition to include the 54 test standards (see Exhibit 48-4). ITSNA seeks expansion of its recognition for testing and certification of products for demonstration of conformance to the following test standards:

UL 5B Strut-Type Channel Raceways and Fittings.

UL 10A Tin-Clad Fire Doors.

UL 30 Metal Safety Cans.

UL 38 Manual Signaling Boxes for Fire Alarm Systems.

UL 51 Power-Operated Pumps for Anhydrous Ammonia and LP-Gas.

UL 58 Steel Underground Tanks for Flammable and Combustible Liquids.

UL 80 Steel Tanks for Oil-Burner Fuels and Other Combustible Liquids.

UL 92 Fire Extinguisher and Booster Hose.

UL 125 Valves for Anhydrous Ammonia and LP-Gas (Other Than Safety Relief).

UL 132 Safety Relief Valves for Anhydrous Ammonia and LP-Gas.

UL 144 LP-Gas Regulators.

UL 193 Alarm Valves for Fire-Protection Service.

UL 194 Gasketed Joints for Ductile-Iron Pipe and Fittings for Fire Protection Service.

UL 252 Compressed Gas Regulators.

UL 268 Smoke Detectors for Fire Alarm Signaling Systems.

UL 268A Smoke Detectors for Duct Application.

UL 346 Waterflow Indicators for Fire Protective Signaling Systems.

UL 404 Gauges, Indicating Pressure, for Compressed Gas Service.

UL 441 Gas Vents.

UL 452 Antenna—Discharge Units.

UL 486D Sealed Wire Connector Systems.

UL 495 Power-Operated Dispensing Devices for LP-Gas.

UL 515 Electrical Resistance Heat Tracing for Commercial and Industrial Applications.

UL 521 Heat Detectors for Fire Protective Signaling Systems.

UL 539 Single and Multiple Station Heat Alarms.

UL 555S Smoke Dampers.

UL 568 Nonmetallic Cable Tray Systems.

UL 681 Installation and Classification of Burglar and Holdup Alarm Systems.

UL 943B Appliance Leakage-Current Interrupters.

UL 985 Household Fire Warning System Units.

UL 1053 Ground-Fault Sensing and Relaying Equipment.

UL 1058 Halogenated Agent Extinguishing System Units.

UL 1062 Unit Substations.

UL 1093 Halogenated Agent Fire Extinguishers.

UL 1254 Pre-Engineered Dry Chemical Extinguishing System Units.

UL 1322 Fabricated Scaffold Planks and Stages.

UL 1412 Fusing Resistors and Temperature-Limited Resistors for Radio- and Television-Type Appliances.

UL 1468 Direct Acting Pressure Reducing and Pressure Restricting Valves.

UL 1681 Wiring Device Configurations.

UL 1730 Smoke Detector Monitors and Accessories for Individual Living Units of Multifamily Residences and Hotel/Motel Rooms.

UL 2085 Protected Aboveground Tanks for Flammable and Combustible Liquids.

UL 2129 Halocarbon Clean Agent Fire Extinguishers.

UL 2388 Flexible Lighting Products.

UL 60335-2-8 Household and Similar Electrical Appliances, Part 2: Particular Requirements for Shavers, Hair Clippers, and Similar Appliances.

UL 60947-1 Low-Voltage Switchgear and Controlgear—Part 1: General Rules*.

UL 60947-7-1 Low-Voltage Switchgear and Controlgear—Part 7-1: Ancillary Equipment—Terminal Blocks for Copper Conductors*.

UL 60947-7-2 Low-Voltage Switchgear and Controlgear—Part 7-2: Ancillary Equipment—Protective Conductor Terminal Blocks for Copper Conductors*.

UL 60947-7-3 Low-Voltage Switchgear and Controlgear—Part 7-3: Ancillary Equipment—Safety Requirements for Fuse Terminal Blocks*.

UL 61010A-2-010 Electrical Equipment for Laboratory Use; Part 2: Particular Requirements for Laboratory Equipment for the Heating of Materials.

UL 61010A-2-041 Electrical Equipment for Laboratory Use; Part 2: Particular Requirements for Autoclaves Using Steam for the Treatment of Medical Materials and for Laboratory Processes.

UL 61010A-2-042 Electrical Equipment for Laboratory Use; Part 2: Particular Requirements for Autoclaves and Sterilizers Using Toxic Gas for the Treatment of Medical Materials, and for Laboratory Processes.

UL 61010A-2-051 Electrical Equipment for Laboratory Use; Part 2: Particular Requirements for Laboratory Equipment for Mixing and Stirring.

UL 61010A-2-061 Electrical Equipment for Laboratory Use; Part 2: Particular Requirements for Laboratory Atomic Spectrometers with Thermal Atomization and Ionization.

UL 61010B-2-031 Electrical Equipment for Measurement, Control, and Laboratory Use; Part 2: Particular Requirements for Hand-Held Probe Assemblies for Electrical Measurement and Test.

* See section below titled Addition of New Test Standards.

The designations and titles of the above test standards were current at the time of the preparation of this notice.

OSHA's recognition of ITSNA, or any NRTL, for a particular test standard is limited to equipment or materials (i.e., products) for which OSHA standards require third-party testing and certification before use in the workplace. Consequently, if a test standard also covers any product(s) for which OSHA does not require such testing and certification, an NRTL's scope of recognition does not include that product(s).

A test standard listed above may be approved as an American National Standard by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Addition of New Test Standards

The series UL 60947 test standards listed above are new to the NRTL Program and are considered by the NRTL Program staff to be comparable to UL 1558 and the related standards ANSI C37.20.1 and ANSI C37.51, which are referenced in UL 1558 and used in conjunction with that standard. Upon publication of the final notice for this expansion, OSHA would add the above UL 60947 test standards to the scope of recognition of any NRTL currently recognized for UL 1558, ANSI C37.20.1, and ANSI C37.51. This action is consistent with the OSHA NRTL Program policy permitting NRTLs to request or OSHA to provide recognition for comparable test standards (i.e., other appropriate test standards covering comparable product testing) in situations when a standard has been replaced or withdrawn by the standards developing organization.

Preliminary Finding

ITSNA has submitted an acceptable request for expansion of its recognition as an NRTL. Our review of the application file, the assessor's memo, and other pertinent documents indicate that ITSNA can meet the requirements, as prescribed by 29 CFR 1910.7, for the expansion to include the 54 additional test standards. This preliminary finding does not constitute an interim or temporary approval of the application.

OSHA welcomes public comments, in sufficient detail, as to whether ITSNA has met the requirements of 29 CFR 1910.7 for the expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of the ITSNA request, the on-site review report, other pertinent documents, and all submitted comments, as received, by contacting the Docket Office, Room N2625, Occupational Safety and Health Administration, U.S. Department of Labor, at the above address. Docket No. OSHA-2007-0039 (formerly NRTL1-89) contains all materials in the record concerning the ITSNA application.

The NRTL Program staff will review all timely comments and, after resolution of issues raised by these comments, will recommend whether to grant the ITSNA expansion request. The Assistant Secretary will make the final decision on granting this request and, in making this decision, may undertake other proceedings that are prescribed in Appendix A to 29 CFR section 1910.7. OSHA will publish a public notice of this final decision in the Federal Register.

Notice of Voluntary Termination of Recognition of Entela, Inc.

Entela, Inc., (ENT) was recognized by OSHA as an NRTL on July 26, 1994 (see 59 FR 37997). The Agency renewed ENT's recognition on July 3, 2001, for a period of five years ending July 3, 2006 (see 66 FR 35278). However, on May 12, 2004 (see Exhibit 48-2), ENT provided notification of its acquisition by the parent company of ITSNA. In a February 10, 2006, letter (see Exhibit 48-3), ITSNA requested that OSHA terminate the recognition of ENT. OSHA has accepted this request, and ENT is no longer recognized as an NRTL. Section II.D of Appendix A to 29 CFR 1910.7 provides that the Agency shall publish a Federal Register notice to note the voluntary termination of a recognition, and OSHA is doing so in this notice. OSHA shall not take any further action on this matter.

In its February 2006 letter, ITSNA also included a request pertaining to the Entela mark, which now appears along with other marks on OSHA's Web page of typical registered certification marks used by each NRTL. ITSNA provided documentation showing its exclusive right to use the Entela mark and requested the mark be shown as one used by ITSNA for its NRTL approvals. OSHA will modify its Web page accordingly.

Signed at Washington, DC, this 22nd day of January, 2008.
Edwin G. Foulke, Jr.,
Assistant Secretary of Labor for Occupational Safety and Health.

[FR Doc. E8-1382 Filed 1-25-08; 8:45 am]

BILLING CODE 4510-26-P